DEPARTMENT OF THE INTERIOR

Bureau of Land Management

[CA-680-01-ES-4130; CACA 41804]

California Desert District, Notice of Realty Action, Public Use Classification; Classification of Public Lands for Recreation and Public Purposes, Serial Number Caca 41804, San Bernardino County, CA

AGENCY: Bureau of Land Management, Interior.

ACTION: Notice of Realty Action CACA 41804, Classification of Public Land as Suitable for Lease/Conveyance for Recreation and Public Purposes.

SUMMARY: The following described public land in San Bernardino County, California has been examined and found suitable for classification for lease or conveyance to the San Bernardino County Consolidated Fire District, County Service Area (CSA) 70 under the provisions of the Recreation and Public Purposes Act, as amended (43 U.S.C. 869 et seq.):

San Bernardino Meridian, California

T. 14N., R. 9E.

Sec. 30, W½NW¼SE¼NE¼;

Containing 5.00 acres.

The San Bernardino County Consolidated Fire District, CSA 70, a County government agency governed by the San Bernardino County Board of Supervisors, has filed an application to lease with the option for conveyance of the above described public land. The San Bernardino County Consolidated Fire District proposes to use the land for establishment of a fire station facility. The public land will be leased during the development stages. Upon substantial compliance with approved plans of development and management, the land will be conveyed.

The land is not needed for Federal purposes. Lease or conveyance under the Recreation and Public Purposes Act is in the public interest and consistent with the California Desert Conservation Area Plan, as amended. The land is located approximately 65 miles northeast of Barstow, CA, in the small unincorporated community of Baker, CA, which is situated adjacent to Interstate 15. The site is physically suitable for the proposed use.

The terms and conditions applicable to a lease conveyance are:

A. Reservations to the United States.

1. A right-of-way thereon for ditches or canals constructed by the authority of the United States. Act of August 30, 1890 (43 U.S.C. 945).

2. The United States will reserve all mineral deposits in the land together with the right to prospect for, mine and remove such mineral deposits under applicable laws.

B. The public land will be leased or conveyed subject to the following:

1. Those rights for construction, operation and maintenance of the 100 foot wide telegraph and telephone line granted to Pacific Telephone and Telegraph Company (now Pacific Bell), its successors or assigns, by right-of-way Serial No. CALA 0153023, pursuant to the Act of March 4, 1911, as amended (36 Stat. 1253; 43 U.S.C. 961).

Upon publication of this notice in the Federal Register, the public land will be segregated from all other forms of appropriation under the public land laws, including the general mining laws, except for lease or conveyance under the Recreation and Public Purposes Act and leasing under the mineral leasing laws.

For a period of 45 days from the date of publication of this notice, interested persons may submit comments, regarding the proposed lease/conveyance of the lands, to the Field Manager, Barstow Field Office, 2601 Barstow Road, Barstow, CA 92311, (760) 252-6023. Any adverse comments will be reviewed by the District Manager, California Desert District. In the absence of any adverse comments, this classification will become effective 60 days from the date of publication of this notice.

Dated: August 20, 2001.
Timothy Read,
Barstow Field Office Manager.

[FR Doc. 01-23737 Filed 9-21-01; 8:45 am]

BILLING CODE 4310-40-P